DEPARTMENT OF COMMERCE

National Oceanic and Atmospheric Administration

50 CFR Part 622

[I.D. 012100C]

South Atlantic Fishery Management Council; Public Hearings

AGENCY: National Marine Fisheries Service (NMFS), National Oceanic and Atmospheric Administration, Commerce.

ACTION: Notice of public hearings; request for comments.

SUMMARY: The South Atlantic Fishery Management Council (Council) will convene two public hearings regarding draft options for Amendment 1 to the Golden Crab Fishery Management Plan (FMP). The amendment addresses gear restrictions, permitting processes, vessel size limits, crew safety and zoning/participation conflicts in the golden crab fishery.

DATES: The Council will accept written comments on the draft options paper through March 1, 2000. The public hearings will be held in February. See SUPPLEMENTARY INFORMATION for specific dates and times of the public hearings.

ADDRESSES: Written comments should be sent to Bob Mahood, Executive Director, South Atlantic Fishery Management Council, One Southpark Circle, Suite 306, Charleston, SC 29407-4699. Copies of the draft options paper are available from Kim Iverson, South Atlantic Fishery Management Council, One Southpark Circle, Suite 306, Charleston, SC 29407-4699; telephone: 843-571-4366. The public hearings will be held in Florida and South Carolina. See SUPPLEMENTARY INFORMATION for specific hearing locations.

FOR FURTHER INFORMATION CONTACT: Kim Iverson, South Atlantic Fishery Management Council, One Southpark Circle, Suite 306, Charleston, SC 29407-4699; telephone: 843-571-4366; fax: 843-769-4520; E-mail address: kim.iverson@safmc.noaa.gov.

SUPPLEMENTARY INFORMATION:

Time and Location for Public Hearings

Public hearings for the draft options paper for Amendment 1 to the Golden Crab Fishery Management Plan will be held at the following locations, dates, and times.

1. February 22, 2000, 6:00 p.m., Best Western Hotel, 111 South Crome Ave., Florida City, FL 33034; telephone: 305-451-0056.

2. February 23, 2000, 6:00 p.m., Town & Country Inn, 2008 Savannah Highway, Charleston, SC 29407; telephone: 843-571-1000.

Copies of the draft options paper can be obtained from the Council (see ADDRESSES).

Special Accommodations

These meetings are physically accessible to people with disabilities. Requests for sign language interpretation or other auxiliary aids should be directed to the Council office (see ADDRESSES) by March 15, 2000.

Dated: January 24, 2000.
Bruce C. Morehead,
Acting Director, Office of Sustainable Fisheries, National Marine Fisheries Service.

[FR Doc. 00-2404 Filed 2-2-00; 8:45 am]

BILLING CODE 3510-22-F